FEDERAL COMMUNICATIONS COMMISSION

47 CFR Part 73

[ET Docket No. 06-94; FCC 10-195]

Digital Television Signals Pursuant to the Satellite Home Viewer Extension and Reauthorization Act of 2004

AGENCY: Federal Communications Commission.

ACTION: Final rules; announcement of effective date.

SUMMARY: In this document, the Commission announces that the Office of Management and Budget (OMB) has approved, for a period of three years, the information collection requirements contained in the regulations in the Satellite Home Viewer Extension Act of 2004. The information collection requirements were approved on June 14, 2011 by OMB.

DATES: The amendments to 47 CFR 73.686(e), published at 75 FR 81491, December 28, 2010, are effective on June 30, 2011.

FOR FURTHER INFORMATION CONTACT: For additional information contact Cathy Williams on (202) 418-2918 or via e-mail to: cathy.williams@fcc.gov mailto:cathy.williams@fcc.gov.

SUPPLEMENTARY INFORMATION: This document announces that on June 14, 2011, OMB approved, for a period of three years, the information collection requirements contained in 47 CFR 73.686(e). The Commission publishes this document to announce the effective date of this rule section. See, In the Matter of Measurement Standards for Digital Television Signals pursuant to the Satellite Home Viewer Extension and Reauthorization Act of 2004, ET Docket No. 06-94; FCC 10-195, 75 FR 81491, December 28, 2010.

Synopsis

As required by the Paperwork Reduction Act of 1995, (44 U.S.C. 3507), the Commission is notifying the public that it received OMB approval on June 14, 2011, for the information collection requirement contained in 47 CFR 73.686(e). Under 5 CFR 1320, an agency may not conduct or sponsor a collection of information unless it displays a current, valid OMB Control Number.

No person shall be subject to any penalty for failing to comply with a collection of information subject to the Paperwork Reduction Act that does not display a valid OMB Control Number.

The OMB Control Number is 3060-0863 and the total annual reporting burdens for respondents for this information collection are as follows:

Title: Satellite Delivery of Network Signals to Unserved Households for Purposes of the Satellite Home Viewer Act.

Form Number: Not applicable.

Type of Review: Revision of a currently approved collection.

OMB Control Number: 3060-0863.

OMB Approval Date: 06/14/2011.

OMB Expiration Date: 06/30/2014.

Respondents: Business or other for-profit entities.

Number of Respondents: Responses 848 respondents; 250,000 responses.

Estimated Time per Response: 0.50 hours.

Frequency of Response: Recordkeeping requirement; on occasion reporting requirement.

Obligation to Respond: Required to obtain or retain benefits. The statutory authority for this collection is the Satellite Home Viewer Act, 17 U.S.C. 119.

Total Annual Burden: 125,000 hours.

Annual Cost Burden: None.

Privacy Act Impact Assessment: No impact(s).

Nature and Extent of Confidentiality: There is no need for confidentiality with this information collection.

Needs and Uses: On November 23, 2010, the Commission's Office of Engineering and Technology, released a Report and Order, Measurement Standards for Digital Television Signals Pursuant to the Satellite Home Viewer Extension and Reauthorization Act of 2004, ET Docket No. 06-94; FCC 10-195. The Report and Order adopted rules establishing measurement procedures for determining the strength of a digital broadcast television (DTV) signal at any specific location. These procedures will be used for determining whether households are eligible to receive distant DTV network signals retransmitted by satellite carriers, pursuant to the provisions of the Satellite Television Extension and Localism Act of 2010 (STELA). The Report and Order implements DTV signal measurement procedures proposed in the Commission's Notice of Proposed Rulemaking (SHERVA NPRM) and Further Notice of Proposed Rulemaking (STELA FNPRM) in this proceeding with minor modifications.

47 CFR 73.686 describes a method for measuring signal strength at a household so that the satellite and broadcast industries and consumers would have a uniform method for making an actual determination of the signal strength that a household received. The information gathered as part of the Grade B signal strength tests will be used to indicate whether consumers are “unserved” by over-the-air network signals. The written records of test results will be made after testing and predicting the strength of a television station's signal. Parties impacted by the test results will be consumers; parties using the written test results will primarily be the satellite and broadcasting industries.

Federal Communications Commission.
Marlene H. Dortch,
Secretary, Office of the Secretary, Office of Managing Director.

[FR Doc. 2011-16440 Filed 6-29-11; 8:45 am]

BILLING CODE 6712-01-P